DEPARTMENT OF THE INTERIOR

Bureau of Land Management

[LLWY920000. L51040000.FI0000. 18XL5017AR]

Notice of Proposed Reinstatement of Terminated Oil and Gas Lease WYW180886, Wyoming

AGENCY: Bureau of Land Management, Interior.

ACTION: Notice of reinstatement.

SUMMARY: In accordance with the Mineral Leasing Act of 1920, Kenneth K. Farmer (lessee) timely filed with the Bureau of Land Management (BLM) a petition for reinstatement of competitive oil and gas lease WYW180886, situated in Sweetwater County, Wyoming. The lessee paid the required rentals that accrued from the date of termination. BLM did not issue any leases that affect this land prior to receiving the petition. BLM proposes to reinstate this lease.

FOR FURTHER INFORMATION CONTACT: Chris Hite, Chief of Fluid Minerals Adjudication, Bureau of Land Management, Wyoming State Office, 5353 Yellowstone Road, P.O. Box 1828, Cheyenne, Wyoming, 82009; phone 307-775-6176; email chite@blm.gov. Persons who use a telecommunications device for the deaf may call the Federal Relay Service (FRS) at 1-800-877-8339 to contact Mr. Hite during normal business hours. The FRS is available 24 hours a day, 7 days a week, to leave a message or question with the above individual. A reply will be sent during normal business hours.

SUPPLEMENTARY INFORMATION: The lessee agrees to the amended lease terms for rentals and royalties at rates of $10 per acre, or fraction thereof, per year and 16-2/3 percent, respectively. The lessee paid the required $500 administrative fee for lease reinstatement and the $159 cost of publishing this Notice. The lessee met the requirements for reinstatement of the lease per Sec. 31(d) and (e) of the Mineral Leasing Act of 1920 (30 U.S.C. 188). The BLM proposes to reinstate the lease effective July 1, 2016, under the original terms and conditions of the lease and the increased rental and royalty rates cited above.

Authority: 30 U.S.C. 188(e)(4) and 43 CFR 3108.2-3(b)(2)(v).

Chris Hite,
Chief, Branch of Fluid Minerals Adjudication.

[FR Doc. 2018-06384 Filed 3-28-18; 8:45 am]

BILLING CODE 4310-22-P